NUCLEAR REGULATORY COMMISSION

[Docket Nos. 50-327 and 50-328]

Tennessee Valley Authority; Notice of Withdrawal of Application for Amendment to Facility Operating License

The U.S. Nuclear Regulatory Commission (the Commission) has granted the request of Tennessee Valley Authority (the licensee) to withdraw its May 22, 2003, application for proposed amendments to Facility Operating License Nos. DPR-77 and DPR-79 for the Sequoyah Nuclear Plant, Units 1 and 2, in Hamilton County, Tennessee.

The proposed amendment would have revised the limiting condition for operation for Technical Specification (TS) Section 3.7.5, “Ultimate Heat Sink.” The licensee requested that the maximum emergency raw cooling water temperature requirement in TS 3.7.5.b be increased from 83 degrees Fahrenheit (°F) to 87 °F and that the minimum ultimate heat sink water elevation in TS 3.7.5.a be increased from 670 feet to 674 feet.

The Commission had previously issued a Notice of Consideration of Issuance of Amendment published in the Federal Register on July 8, 2003 (68 FR 40719). However, by letter dated July 17, 2003, the licensee withdrew the proposed change.

For further details with respect to this action, see the application for amendment dated May 22, 2003, and the licensee's letter dated July 17, 2003, which withdrew the application for license amendments. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 23rd day of July 2003.
For the Nuclear Regulatory Commission.
Michael L. Marshall, Jr.,
Senior Project Manager, Section 2, Project Directorate II, Division of Licensing Project Management, Office of Nuclear Reactor Regulation.

[FR Doc. 03-19214 Filed 7-28-03; 8:45 am]

BILLING CODE 7590-01-P